DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 81 FR 25680 dated April 29, 2016).

This notice reflects organizational changes in the Health Resources and Services Administration (HRSA), HIV/AIDS Bureau (RV). Specifically, this notice: (1) Establishes the Office of Program Support; (RV3); (2) transfers the organizational development, training and technological functions from the Office of Operations and Management (RV2) and the communications, grantee oversight and customer service functions from the Office of the Associate Administrator (RV) to the newly established Office of Program Support (RV3); and (3) updates the functional statement for the Office of Operations and Management (RV2), the Division of Administrative Operations (RV21), and the Office of the Associate Administrator (RV).

Chapter RV—HIV/AIDS Bureau

Section RV-10, Organization

Delete the organization for the Office of the Associate Administrator (RA) in its entirety and replace with the following:

The HIV/AIDS Bureau is headed by the Associate Administrator, who reports directly to the Administrator, Health Resources and Services Administration.

(1) Office of the Associate Administrator (RV);

(2) Office of Operations and Management (RV2);

a. Division of Administrative Operations (RV21);

(3) Office of Program Support (RV3);

(4) Division of Policy and Data (RVA);

(5) Division of Metropolitan HIV/AIDS Programs (RV5);

(6) Division of State HIV/AIDS Programs (RVD);

(7) Division of Community HIV/AIDS Programs (RV6); and

(8) Office of HIV/AIDS Training and Capacity Development (RVT);

a. Division of Domestic Programs; and

b. Division of Global Programs.

Section RV-20, Functions

This notice reflects organizational changes in the Health Resources and Services Administration (HRSA), HIV/AIDS Bureau (RV). Specifically, this notice: (1) Establishes the Office of Program Support; (RV3); (2) transfers the organizational development, training and technological functions from the Office of Operations and Management (RV2) and the communications, grantee oversight and customer service functions from the Office of the Associate Administrator (RV) to the newly established Office of Program Support (RV3); and (3) updates the functional statement for the Office of Operations and Management (RV2), the Division of Administrative Operations (RV21), and the Office of the Associate Administrator (RV).

Delete the function for the following: (1) Office of the Associate Administrator (RV); (2) Office of Operations and Management (RV2); and the Division of Administrative Operations (RV21); replace in their entirety.

Office of the Associate Administrator (RV)

The Office of the Associate Administrator provides leadership and direction for the HIV/AIDS programs and activities of the Bureau and oversees its relationship with other national health programs. Specifically: (1) promotes the implementation of the National HIV/AIDS Strategy within the Agency and among Agency-funded programs; (2) coordinates the formulation of an overall strategy and policy for programs established by Title XXVI of the PHS Act as amended by the Ryan White HIV/AIDS Treatment Extension Act of 2009, P.L. 111-87; (3) coordinates the internal functions of the Bureau and its relationships with other Agency Bureaus and Offices; (4) establishes HIV/AIDS program objectives, alternatives, and policy positions consistent with broad Administration guidelines; (5) provides leadership for and oversight of the Bureau's budgetary development and implementation processes; (6) provides clinical leadership to Ryan White-funded programs and global HIV/AIDS programs; (7) oversees the implementation of the Global HIV/AIDS Program as part of the President's Emergency Plan for AIDS Relief; (8) serves as a principal contact and advisor to the Department and other parties on matters pertaining to the planning and development of HIV/AIDS-related health delivery systems; (9) reviews HIV/AIDS related program activities to determine their consistency with established policies; (10) develops and oversees operating policies and procedures for the Bureau; (11) oversees and directs the planning, implementation, and evaluation of special studies related to HIV/AIDS and public health within the Bureau; (12) prioritizes technical assistance needs in consultation with each division/office; (13) plans, implements, and evaluates the Bureau's national technical assistance resource training center Web site and other distance learning modalities; (14) represents the Agency in HIV/AIDS related conferences, consultations, and meetings with other Operating Divisions, Office of the Assistant Secretary for Health, the Department of State, and the White House; and (15) oversees Bureau Executive Secretariat functions and coordinates HRSA responses and comments on HIV/AIDS-related reports, position papers, guidance documents, correspondence, and related issues, including Freedom of Information Act requests.

Office of Operations and Management (RV2)

The Office of Operations and Management provides expertise guidance, leadership, and support in the areas of general administration, fiscal operations, and contract administration. The Office of Operations and Management is responsible for providing direction on all budgetary, administrative, human resources, operations, facility management and contracting functions for the HIV/AIDS Bureau. The Office also oversees and coordinates all Bureau program integrity activities.

Division of Administrative Operations (RV21)

The Division of Administrative Operations is responsible for the administrative, human resources operations, facility management and contracting functions for the Bureau. Specifically, these functions are carried out in the Administrative Services and Contracting Services Team.

Office of Program Support (RV3)

The Office of Program Support provides expertise, guidance, leadership, and support in the areas of organizational development, communications, grantee oversight, and customer service to support program implementation. Specifically, the Office of Program Support: (1) enhances the coordination of program support, grants management, and technical assistance across the entire Bureau; (2) plans, implements and evaluates HAB staff development and education to enable employees to meet the mission of the Bureau; (3) streamlines communications, clearance activities and development of consistent, quality presentations; (4) improves the Bureau's external facing communication efforts; (5) facilitates transparency in sharing the Bureau's data using internal and external resources; (6) provides leadership for and oversees Bureau's grants processes; (7) coordinates the grants liaison activities; (8) supports grantee oversight and improves customer service and technical assistance to grantees; (9) serves as the Bureau's primary liaison with the Office of Federal Assistance Management; (10) supports systems development to improve program efficiencies and management; (11) provides support with the implementation of staff development, organizational development and training activities; (12) plans, develops, implements and evaluates the Bureau's organizational and staff development, and staff training activities inclusive of guiding action steps addressing annual Employee Viewpoint Survey results; and (13) coordinates the development and distribution of all Bureau communication activities, materials and products internally and externally.

Delegations of Authority

All delegations of authority and re-delegations of authority made to HRSA officials that were in effect immediately prior to this reorganization, and that are consistent with this reorganization, shall continue in effect pending further re-delegation.

This reorganization is effective upon date of signature.

Dated: August 1, 2016.
James Macrae,
Acting Administrator.

[FR Doc. 2016-18730 Filed 8-5-16; 8:45 am]

BILLING CODE 4165-15-P